DEPARTMENT OF LABOR

Occupational Safety and Health Administration

[Docket No. ICR-1218-0176-2000]

Agency Information Collection Activities; Announcement of OMB Approval for Recording and Reporting Occupational Injuries and Illnesses

AGENCY: Occupational Safety and Health Administration, DOL.

ACTION: Notice.

SUMMARY: The Occupational Safety and Health Administration (OSHA) is announcing that a collection of information regarding the recording of occupational injuries and illnesses has been approved by the Office of Management and Budget (OMB) under the Paperwork Reduction Act of 1995. This document announces the OMB approval number and expiration date.

FOR FURTHER INFORMATION CONTACT: David Schmidt, Directorate of Information Technology, Office of Statistics, Occupational Safety and Health Administration, U.S. Department of Labor, Room N3507, 200 Constitution Avenue, NW., Washington, DC 20210, telephone (202) 693-1886.

SUPPLEMENTARY INFORMATION: In the Federal Register of July 7, 2000 (65 FR 42034-42035), the Agency announced its intent to request renewal of its current OMB approval for 29 CFR 1904, Recording and Reporting Occupational Injuries and Illnesses (less 1904.8, Reporting of Fatality or Multiple Hospitalization Incidents and 1904.17, Annual OSHA Injury and Illness Survey of Ten or More Employers). In accordance with Paperwork Reduction Act of 1995 (44 U.S.C. 3501-3520), OMB has renewed its approval for the information collection and assigned OMB control number 1218-0176. The approval expires December 31, 2001. Under 5 CFR 1320.5(b), an Agency may not conduct or sponsor, and a person is not required to respond to a collection of information unless the collection displays a valid control number.

Dated: February 23, 2001.
R. Davis Layne,
Acting Assistant Secretary of Labor.

[FR Doc. 01-6449 Filed 3-16-01; 8:45 am]

BILLING CODE 4510-26-M